DEPARTMENT OF ENERGY

Federal Energy Regulatory Commission

[Docket No. CP00-232-000]

Iroquois Gas Transmission System, L.P.; Notice of Intent To Prepare an Environmental Impact Statement for the Proposed Eastchester Project, Request for Comments on Environmental Issues, and Notice of Public Scoping Meeting and Site Visit

August 9, 2000.

The staff of the Federal Energy Regulatory Commission (FERC or Commission) will prepare an environmental impact statement (EIS) that will discuss the environmental impacts of the Eastchester Project involving construction and operation of facilities by Iroquois Gas Transmission System, L.P. (Iroquois).¹ The EIS will be used by the Commission in its decision-making process to determine whether the project is in the public convenience and necessity.

¹ Iroquois' application was filed with the Commission on April 28, 2000, under section 7 of the Natural Gas Act and Part 157 of the Commission's regulations.

The purpose of the proposed project is to deliver natural gas for distribution to the Bronx, New York. These facilities would consist of: (1) Approximately 30.3 miles of 24-inch diameter pipeline from Northport, New York to the Bronx, New York; (2) a new 20,000 horsepower (HP) compressor station at Boonville, New York; (3) a new 20,000 HP compressor station at Dover, New York; (4) a 3,300 HP increase at the existing Wright compressor station; (5) an 11,000 HP increase at the existing Croghan compressor station; (6) cooling units at the existing Wright and Athens compressor stations; (7) a new point of interconnection with the facilities of Consolidated Edison Company of New York, Inc. in the Bronx, New York; and (8) other appurtenant facilities.

Iroquois states that the estimated cost of the proposed facilities is $170.8 million. Iroquois proposes to place the facilities in service in two phases. The first phase would transport up to 70,000 dekatherms per day beginning April 1, 2002 and the remaining facilities would be placed in service on November 1, 2002. The remaining facilities would enable Iroquois to transport about 220,000 to 230,000 dekatherms of natural gas per day.

The general location of the project facilities is shown in appendix 1.²

² The appendices referenced in this notice: (1) project location map; (2) agencies invited to cooperate in preparation of EIS; (3) how to intervene in Commission proceedings; and (4) request to be retained on environmental mailing list or to request specific site map, are not being printed in the Federal Register. Copies are available on the Commission's website at the “RIMS” link or from the Commission's Public Reference and Files Maintenance Branch, 888 First Street, N.E., Washington, D.C. 20426, or call (202) 208-1371. For instructions on connecting to RIMS refer to the last page of this notice. Copies of the appendices were sent to all those receiving this notice in the mail.

All entities that provided comments on the proposed project and included an address, receive this notice. If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

With this notice we are asking a number of federal and state agencies with jurisdiction and/or special expertise with respect to environmental issues to cooperate with us in the preparation of the EIS (see appendix 2). These agencies may choose to participate once they have evaluated the proposal relative to their agencies' responsibilities.

Summary of the Proposed Project

The proposed project would extend the existing Iroquois Pipeline from Northport on Long Island to the Bronx, New York. Additional compression to support this extension would be constructed along the existing Iroquois Pipeline. New compressor stations would be constructed at Boonville and Dover, New York. The capacity of two existing compressor stations at Croghan and Wright, New York, would be increased and gas coolers would be installed at existing compressor stations at Athens and Wright, New York.

The proposed Boonville compressor station would be located in the Town of Boonville, Oneida County, New York on a parcel currently owned by Iroquois. The 20.9-acre parcel is between East Road, the Lewis County line and the Penn Central railroad tracks. Access to the site would be from East Road.

The proposed Dover compressor station would be located in the Town of Dover, Dutchess County, New York on a parcel that Iroquois currently has an option to purchase. The 16.4-acre parcel is immediately north of Dover Furnace and is contained by the Conrail railroad line and Swamp River on the east and a county road on the west. The site has been used as a gravel pit.

The length of the proposed pipeline extension is 30.3 miles. Approximately 27.4 miles of the proposed 24-inch diameter pipeline would be buried in Long Island Sound. The proposed routing of facilities would utilize existing right-of-way and open areas and require no displacement of existing homes.

The Eastchester Project would originate at the existing Iroquois Pipeline terminus in Northport, New York and extend north into Long Island Sound. In Long Island Sound, the buried pipeline would extend in a northwesterly direction from Northport, New York. Just south of the Connecticut border, it would turn west-southwest staying in New York State waters following the Connecticut and New York state border. It would continue in a southwesterly direction generally along the boundaries of Westchester, Nassau, and Bronx county lines to landfall at Pelham Bay Park in the Bronx, New York. The pipeline would cross Pelham Bay Park, go under the Hutchinson River, cross a New York Bus Service parking lot, cross under Connor Street, cut over to Tillotson Avenue at approximately Merritt Avenue, and proceed down Tillotson Avenue to its terminus and custody transfer station at Steenwick Avenue.

The EIS Process

The National Environmental Policy Act (NEPA) requires the Commission to take into account the environmental impacts that could result from an action whenever it considers the issuance of a Certificate of Public Convenience and Necessity. NEPA also requires us to discover and address concerns the public may have about proposals. We call this “scoping.” The main goal of the scoping process is to focus the analysis in the EIS on the important environmental issues. By this Notice of Intent, the Commission requests public comments on the scope of the issues it will address in the EIS. All comments received are considered during the preparation of the EIS. State and local government representatives are encouraged to notify their constituents of this proposed action and encourage them to comment on their areas of concern.

The EIS will discuss impacts that could occur as a result of the construction and operation of the proposed project under these general headings:

• Geology, mineral resources, and soils;

• Water resources, fisheries, and wetlands;

• Coastal and marine resources;

• Vegetation and wildlife;

• Endangered and threatened species;

• Land ownership and land use;

• Recreation and public interest areas;

• Visual resources and aesthetics;

• Cultural resources;

• Air quality and noise;

• Hazardous waste;

• Socioeconomics;

• Pipeline safety; and

• Alternatives.

Our independent analysis of the issues will be in the draft EIS (DEIS) which will be mailed to Federal, state, and local agencies, public interest groups, affected landowners and other interested individuals, newspapers, libraries, and the Commission's official service list for this proceeding. A 45-day comment period will be allotted for review of the DEIS. We will consider all comments on the DEIS and revise the document, as necessary, before issuing a Final EIS. The Final EIS will include our response to comments received and will be used by the Commission in its decision-making process to determine whether to approve the proposed project, approve a modified proposal, or to deny the application.

To ensure that your comments are considered, please carefully follow the instructions in the public participation section beginning on page 6.

Currently Identified Environmental Issues

The EIS will discuss impacts that could occur as a result of the construction and operation of the proposed project. The FERC has identified a number of issues that may deserve attention based on a preliminary review of the proposed facilities and the environmental information provided by Iroquois. Some of these issues are listed below. This is a preliminary list of issues and may be changed based on your comments and further analysis. Currently identified environmental issues for the Eastchester Project include:

• Construction and operational impacts on fisheries and harvest in Long Island Sound;

• Potential impacts associated with directional drilling, dredging, jetting, rock berm construction methods, and routing alternatives in Long Island Sound;

• Effect on landowners and future land use;

• Consistency with local land use plans and zoning including effect on future planned development areas;

• Erosion control and potential for sediment transport to water bodies and wetlands;

• Effect of construction on groundwater and surface water supplies;

• Effect of construction on coastal wetlands;

• Clearing of trees and maintenance of an access corridor on the right-of-way;

• Potential introduction and control of non-native species;

• Effect on wildlife, fisheries including essential fish habitat, and rare plant habitats;

• Impacts on federally listed endangered and threatened species;

• Effect on historic and prehistoric archaeological sites and historic structures;

• Effect on public lands and special use areas including Pelham Bay Park;

• Visual effect of aboveground facilities on surrounding urban areas;

• Effect on local air quality and noise environment as a result of compressor station operations; and

• Combined effect of the proposed project with other projects, including other natural gas pipelines, which have been or may be proposed in the same region and similar time frames.

Public Participation and Scoping Meetings

You can make a difference by providing us with your specific comments or concerns about the project. By becoming a commentor, your concerns will be addressed in the EIS and considered by the Commission. You should focus on the potential environmental effects of the proposal, alternatives to the proposal (including alternative routes), and measures to avoid or lessen environmental impact. The more specific your comments, the more useful they will be. Please carefully follow these instructions to ensure that your comments are received in time and properly recorded:

• Send two copies of your letter to: David P. Boergers, Secretary, Federal Energy Regulatory Commission, 888 First St., NE., Room 1A, Washington, DC 20426.

• Label one copy of the Comments for the attention of the Gas/Hydro Group, PJ 11.3.

• Reference Docket No. CP00-232-000.

• Mail your comments so that they will be received in Washington, DC on or before September 22, 2000.

In addition to or in lieu of sending written comments, we invite you to attend the public scoping meetings the FERC will conduct in the project area. The locations and times for these meetings are listed below.

Schedule of Public Scoping Meetings for the Eastchester Project Environmental Impact Statement
Date and time | Location | Phone
September 6, 2000; 7:30 pm | Adirondack Center School, Boonville, NY | (315) 942-9252
September 7, 2000; 7:30 pm | Dover High School, Dover, NY | (914) 832-4500
September 13, 2000; 7:30 pm | Harry S. Truman High School, Bronx, NY | (718) 904-5400
September 14, 2000; 7:30 pm | Prospect Hill School, Pelham Manor | (914) 738-6690

The public meetings are designed to provide you with more detailed information and another opportunity to offer your comments on the proposed project. FERC representatives will open the formal meeting, discuss the application process, and request public comments. Then the comment period will begin. Interested groups and individuals are encouraged to attend the meetings and to present comments on the environmental issues they believe should be addressed in the DEIS.

In addition, an Agency Scoping Meeting will be on September 14, 2000, at the Residence Inn, 35 Lecount Place, New Rochelle at 1:00 pm. While the public may attend, the primary purpose of the agency scoping meeting is to receive comments from federal, state, and local government agency representatives. A transcript of each scoping meeting will be made so that all comments are accurately recorded.

On the dates of the meetings, the staff will also be visiting some project areas. Anyone interested in participating in a site visit may contact Mr. Paul McKee of the Commission's Office of External Affairs at (202) 208-1088 for details and must provide their own transportation.

Becoming an Intervenor

In addition to involvement in the EIS scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding.³ If you want to become an intervenor you must file a motion to intervene according to Rule 214 of the Commission's Rules of Practice and Procedure (18 CFR 385.214) (see appendix 3). Only intervenors have the right to seek rehearing of the Commission's decision.

³ The service list is updated routinely. Intervenors should consult the service list when a filing is made to ensure all appropriate entities are served. Copies of the service list may be obtained through the Commission's website or from the Commission's Secretary.

Affected landowners and parties with environmental concerns may be granted intervenor status upon showing good cause by stating that they have a clear and direct interest in this proceeding which would not be adequately represented by any other parties. You do not need intervenor status to have your environmental comments considered.

Environmental Mailing List

This notice is being sent to individuals, organizations, and government entities interested in and/or potentially affected by the proposed project. It is also being sent to all identified potential right-of-way grantors. As details of the project become established, representatives of Iroquois may also separately contact landowners, communities, and public agencies concerning project matters, including acquisition of permits and rights-of-way.

All commenters will be retained on our mailing list. If you do not want to send comments at this time but still want to keep informed and receive copies of the DEIS and Final EIS, you must return the Information Request (appendix 4). If you do not send comments or return the Information Request, you will be taken off the mailing list.

You may view the application which includes detailed maps of proposed Eastchester Project at local public libraries. Alternatively, maps may be viewed from the FERC website (www.ferc.fed.us). At the FERC website click on “RAMS”, then click on “Link to RIMS”, from the list in the left column select “Docket #”, and at the Docket entry box type in “CP00-232”. Maps were filed on April 28, 2000. Adjust the date range to include this date and click on “Search”. The document containing maps is “Iroquois Gas Transmission System, LP's Volume V Appendices to Volume II to its application to construct etc the proposed Eastchester Extension Project under CP00-232.” To view the document, click on “I=449” located next to the document description. The first page of the document is displayed. Additional pages may be viewed using the arrow keys at the top of the screen or by selecting a page number at the upper left of the screen. Maps are found on pages 4 through 15 of this filing. For assistance with access to RIMS, the RIMS helpline can be reached at (202) 208-2222. Finally, you may receive a copy of the same map available through RIMS by forwarding a request to the Secretary of the Commission using the form attached at appendix 4.

The “CIPS” link on the FERC Internet website provides access to the texts of formal documents issued by the Commission, such as orders, notices, and rulemakings. From the FERC Internet website, click on the “CIPS”link, select “Docket #” from the CIPS menu, and follow the instructions. For assistance with access to CIPS, the CIPS helpline can be reached at (202) 208-2474.

Additional information about the proposed project is available from Mr. Paul McKee of the Commission's Office of External Affairs at (202) 208-1088.

David P. Boergers,
Secretary.

[FR Doc. 00-20665 Filed 8-14-00; 8:45 am]

BILLING CODE 6717-01-M